DEPARTMENT OF THE INTERIOR

National Park Service

Notice of Available of a Final Environmental Impact Statement for the National Coal Heritage Area, Management Action Plan

AGENCY: National Park Service, Department of Interior.

ACTION: Availability of the final environmental impact statement for the National Coal Heritage Area Management Plan.

SUMMARY: Pursuant to section 102(2)(C) of the National Environmental Policy Act of 1969, the National Park Service announces the availability of a Final Environmental Impact Statement (DEIS) for the National Coal Heritage Area (HCHA) in West Virginia. The National Coal Heritage Area Act of 1996 requires the NCHA, with guidance from the National Park Service, to prepare a management plan for the heritage area. The purpose of the Management Action Plan is to: (1) Set forth the integrated cultural, historical, and land resource management policies and programs in order to retain, enhance, and interpret the significant values of the lands, water, and structures of the Area. (2) describe the guidelines and standards for projects that involve preservation, restoration, maintenance, operations, interpretation, and promotion of buildings, structures, facilities, and sites; and (3) set forth the responsibilities of the State of West Virginia, units of local government, nonprofit entities, in order to further historic preservation and compatible economic revitalization.

The study area, designated as the National Coal Heritage Area, includes the following eleven counties in the southern region of West Virginia: Boone, Cabell, Fayette, Logan, McDowell, Mercer, Mingo, Raleigh, Summers, Wayne, and Wyoming.

The National Park Service (NPS) maintains three park sites within the region: New River Gorge National River, The Bluestone National Scenic River and the Gauley National Recreation Area. Otherwise the majority of land is non-federal and the NPS assumes a management role only within their park units. Instead, conservation, interpretation and other activities are managed by partnerships among federal, state, an local governments and private nonprofit organizations. The national heritage area is managed by the State of West Virginia Division of Culture and History, and Division of Tourism, but will be managed in the future by a State Authority. The National Park Service has been authorized by Congress to provide technical and financial assistance for a limited period to the state (up to 10 years from the time of the designation in 1996).

DATES: The FEIS will remain on Public Review for thirty days after announcement is made by the U.S. Environmental Protection Agency of its availability.

FOR FURTHER INFORMATION CONTACT: Peter Samuel, Project Leader, Philadelphia Support Office, National Park Service, U.S. Custom House, 200 Chestnut Street, Philadelphia, PA 19106, peter_samuel@nps.gov, 215-597-1848.

If you correspond using the internet, please include your name and return address in your e-mail message. Our practice is to make comments, including names and home addresses of respondents, available for public review. Individual respondents may request that we withhold their home address from the record, which we will honor to the extent allowable by law. There also may be circumstances in which we would withhold from the record a respondent's identify, as allowable by law. If you wish to withhold your name and/or address, you must state this prominently at the beginning of your comment. However, we will not consider anonymous comments. We will make all submissions from organizations or businesses, and from individuals identifying themselves as representatives or officials of organizations or businesses, available for public inspection in their entirety.

Dated: September 7, 2002.
David Hollenberg,
Assistant Regional Director, National Heritage Partnerships, NPS Northeast Region.

[FR Doc. 02-24048 Filed 9-20-02; 8:45 am]

BILLING CODE 4310-70-M